DEPARTMENT OF TRANSPORTATION

Federal Aviation Administration

Noise Compatibility Program Notice; Addison Airport, Addison, TX

AGENCY: Federal Aviation Administration, DOT.

ACTION: Notice.

SUMMARY: The Federal Aviation Administration (FAA) announces its findings on the noise compatibility program submitted by the town of Addison under the provisions of 49 U.S.C. (the Aviation Safety and Noise Abatement Act, hereinafter referred to as “the Act”) and 14 CFR part 150. These findings are made in recognition of the description of Federal and nonfederal responsibilities in Senate Report No. 96-52 (1980). On September 22, 2004, the FAA determined that the noise exposure maps submitted by the town of Addison under part 150 were in compliance with applicable requirements. On December 22, 2005, the FAA approved the Addison Airport noise compatibility program. Most of the recommendations of the program were approved.

DATES: Effective Date: The effective date of the FAA's approval of the Addison Airport noise compatibility program is December 22, 2005.

FOR FURTHER INFORMATION CONTACT: Mr. Paul Blackford, Environmental Specialist, Federal Aviation Administration, Texas Airports Development Office, ASW-650, 2601 Meacham Boulevard, Fort Worth, Texas 76193-0650. Telephone (617) 222-5607. Documents reflecting this FAA action may be reviewed at this same location.

SUPPLEMENTARY INFORMATION: This notice announces that the FAA has given its overall approval to the noise compatibility program for Addison Airport, effective December 22, 2005.

Under section 47504 of the Act, an Airport operator who has previously submitted a noise exposure map may submit to the FAA a noise compatibility program which sets forth the measures taken or proposed by the airport operator for the reduction of existing non-compatible land uses and prevention of additional non-compatible land uses within the area covered by the noise exposure maps. The Act requires such programs to be developed in consultation with interested and affected parties including local communities, government agencies, airport users, and FAA personnel.

Each airport noise compatibility program developed in accordance with Federal Aviation Regulations (FAR) Part 150 is a local program, not a Federal program. The FAA does not substitute its judgment for that of the airport proprietor with respect to which measures should be recommended for action. The FAA's approval or disapproval of FAR Part 150 program recommendations is measured according to the standards expressed in Part 150 and the Act and is limited to the following determinations:

a. The noise compatibility program was developed in accordance with the provisions and procedures of FAR Part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport noise compatibility program are delineated in FAR Part 150, section 150.5. Approval is not a determination concerning the acceptability of land uses under Federal, State, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA. Where federal funding is sought, requests for project grants must be submitted to the FAA regional office in Fort Worth, Texas.

The town of Addison submitted to FAA on September 1, 2004, the noise exposure maps, descriptions, and other documentation produced during the noise compatibility planning study conducted from October 2001 through September 2004. The Addison Airport noise exposure maps were determined by FAA to be in compliance with applicable requirements on September 22, 2004. Notice of this determination was published in the Federal Register on September 29, 2004.

The Addison Airport study contains a proposed noise compatibility program comprised of actions designed for phased implementation by airport management and adjacent jurisdictions. It was requested that the FAA evaluate and approve this material as a noise compatibility program as described in section 47504 of the Act. The FAA began its review of the program on July 1, 2005, and was required by a provision of the Act to approve or disapprove the program within 180 days (other than the use of new or modified flight procedures for noise control). Failure to approve or disapprove such program within the 180-day period shall be deemed to be an approval of such program.

The submitted program contained nineteen (19) proposed actions for noise mitigation on and off the airport. The FAA completed its review and determined that the procedural and substantive requirements of the Act and FAR Part 150 have been satisfied. The overall program, therefore, was approved by the FAA effective December 22, 2005.

Outright approval was granted for twelve (12) of the specific program elements. One (1) element was disapproved, one (1) element was disapproved pending submittal of additional information, two (2) elements were partially approved, and three (3) elements required no action. Disapproved element proposed to create a departure procedure for runway 15 that incorporates maintaining runway heading for 1.5 distance measuring equipment (DME) prior to turning on course for business jets and turboprop aircraft. In addition to impacts on airspace operational efficiency, the element did not meet Part 150 approval criteria of reducing non-compatible land uses exposed to 65 DNL. Element disapproved pending submittal of additional information proposed acquisition of a 6.98-acre section of land, which borders airport property to the northwest and is contained within the 2007 70 and 75 DNL noise contours. The 6.98-acre section of land is zoned for compatible industrial and transportation land uses and is located within the jurisdiction of the Town of Addison. Supporting information is required to demonstrate that noncompatible development is highly likely, and that existing and proposed new local land use controls are inadequate to prevent that development. Approved measures included sound insulation of fifteen (15) single-family homes and 368 apartment units within the 2007 65 DNL contour; one (1) measure contained in the Noise Abatement Element; nine (9) measures, two (2) approved in part, contained in the Land Use Management Element; and four (4) measures included in the Program Management Element.

These determinations are set forth in detail in a Record of Approval signed by the Associate Administrator for Airports, ARP-1, on December 22, 2005. The Record of Approval, as well as other evaluation materials and the documents comprising the submittal, are available for review at the FAA office listed above and at the administrative offices of the Addison Airport. The Record of Approval also will be available on-line at http://www.faa.gov/arp/environmental/14cfr150/index14.cfm.

Issued in Fort Worth, Texas, January 10, 2006.
Kelvin L. Solco,
Manager, Airports Division.

[FR Doc. 06-409 Filed 1-17-06; 8:45 am]

BILLING CODE 4910-13-M